NUCLEAR REGULATORY COMMISSION

10 CFR Part 40

[NRC-2008-0421]

RIN 3150-AI40

Ground Water Protection at Uranium In Situ Recovery Facilities

AGENCY: Nuclear Regulatory Commission.

ACTION: Request for comment; extension of comment period.

SUMMARY: On January 31, 2019, the U.S. Nuclear Regulatory Commission (NRC) requested comments on whether it should proceed with a rulemaking to promulgate a generic set of regulations for the operation of uranium in situ recovery (ISR) facilities, including ground water protection requirements, to standardize existing NRC ISR licensing and oversight practices. The public comment period originally was scheduled to close on March 4, 2019. The NRC has decided to extend the public comment period to allow more time for members of the public to develop and submit their comments.

DATES: The due date of comments requested in the document published on January 31, 2019 (84 FR 574) is extended. Comments should be filed no later than May 3, 2019. Comments received after this date will be considered, if it is practical to do so, but the NRC is able to ensure consideration only for comments received on or before this date.

ADDRESSES: You may submit comments by any of the following methods:

• Federal Rulemaking Website: Go to http://www.regulations.gov and search for Docket ID NRC-2008-0421. Address questions about NRC dockets to Carol Gallagher; telephone: 301-415-3463; email: Carol.Gallagher@nrc.gov. For technical questions contact the individuals listed in the FOR FURTHER INFORMATION CONTACT section of this document.

• Email comments to: Rulemaking.Comments@nrc.gov. If you do not receive an automatic email reply confirming receipt, then contact us at 301-415-1677.

• Fax comments to: Secretary, U.S. Nuclear Regulatory Commission at 301-415-1101.

• Mail comments to: Secretary, U.S. Nuclear Regulatory Commission, Washington, DC 20555-0001, ATTN: Rulemakings and Adjudications Staff.

• Hand deliver comments to: 11555 Rockville Pike, Rockville, Maryland 20852, between 7:30 a.m. and 4:15 p.m. (Eastern Time) Federal workdays; telephone: 301-415-1677.

For additional direction on obtaining information and submitting comments, see “Obtaining Information and Submitting Comments” in the SUPPLEMENTARY INFORMATION section of this document.

FOR FURTHER INFORMATION CONTACT: Andrew G. Carrera, telephone: 301-415-1078; email: Andrew.Carrera@nrc.gov; or Gary Comfort, telephone: 301-415-8106; email: Gary.Comfort@nrc.gov. Both are staff of the Office of Nuclear Material Safety and Safeguards, U.S. Nuclear Regulatory Commission, Washington, DC 20555-0001.

SUPPLEMENTARY INFORMATION:

I. Obtaining Information and Submitting Comments

A. Obtaining Information

Please refer to Docket ID NRC-2008-0421 when contacting the NRC about the availability of information for this action. You may obtain publicly-available information related to this action by any of the following methods:

• Federal Rulemaking Website: Go to http://www.regulations.gov and search for Docket ID NRC-2008-0421.

• NRC's Agencywide Documents Access and Management System (ADAMS): You may obtain publicly-available documents online in the ADAMS Public Documents collection at http://www.nrc.gov/reading-rm/adams.html. To begin the search, select “Begin Web-based ADAMS Search.” For problems with ADAMS, please contact the NRC's Public Document Room (PDR) reference staff at 1-800-397-4209, 301-415-4737, or by email to pdr.resource@nrc.gov.

• NRC's PDR: You may examine and purchase copies of public documents at the NRC's PDR, Room O1-F21, One White Flint North, 11555 Rockville Pike, Rockville, Maryland 20852.

B. Submitting Comments

Please include Docket ID NRC-2008-0421 in your comment submission.

The NRC cautions you not to include identifying or contact information that you do not want to be publicly disclosed in your comment submission. The NRC will post all comment submissions at http://www.regulations.gov as well as enter the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment into ADAMS.

II. Discussion

On January 31, 2019, the NRC published a document in the Federal Register (84 FR 574) requesting comments on whether it should proceed with a rulemaking to promulgate a generic set of regulations for the operation of ISR facilities, including ground water protection requirements, to standardize existing NRC ISR licensing and oversight practices. The public comment period was originally scheduled to close on March 4, 2019. By letter dated February 20, 2019 (ADAMS Accession No. ML19052A425), the National Resources Defense Council, on behalf of itself and the New Mexico Environmental Law Center, Energy & Conservation Law, the Powder River Basin Resource Center, and the Western Mining Action Project, requested that the NRC extend the deadline to comment by 60 days. The NRC is granting this request and will extend the public comment period until May 3, 2019, to allow more time for members of the public to submit their comments.

Dated at Rockville, Maryland, this 25th day of February 2019.
For the Nuclear Regulatory Commission.
Theresa V. Clark,
Deputy Director, Division of Rulemaking, Office of Nuclear Material Safety and Safeguards.

[FR Doc. 2019-03556 Filed 2-28-19; 8:45 am]

BILLING CODE 7590-01-P